ENVIRONMENTAL PROTECTION AGENCY

40 CFR Part 52

[EPA-R05-OAR-2015-0845; FRL-9956-62-Region 5]

Air Plan Approval; Michigan; Part 9 Miscellaneous Rules

AGENCY: Environmental Protection Agency (EPA).

ACTION: Direct final rule.

SUMMARY: The Environmental Protection Agency (EPA) is approving administrative revisions for incorporation into the Michigan's State Implementation Plan (SIP). The submittal, by the Michigan Department of Environmental Quality (MDEQ) on December 21, 2015, makes minor corrections to Michigan's Air Pollution Control Rules entitled “Emissions Limitations and Prohibitions—Miscellaneous.”

DATES: This rule is effective on February 17, 2017, unless EPA receives adverse written comments by January 18, 2017. If EPA receives adverse comments, EPA will publish a timely withdrawal of the rule in the Federal Register and inform the public that the rule will not take effect.

ADDRESSES: Submit your comments, identified by Docket ID No. EPA-R05-OAR-2015-0845 at http://www.regulations.gov or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the Web, cloud, or other file sharing system). For additional submission methods, please contact the person identified in the “For Further Information Contact” section. For the full EPA public comment policy, information about CBI or multimedia submissions, and general guidance on making effective comments, please visit http://www2.epa.gov/dockets/commenting-epa-dockets.

FOR FURTHER INFORMATION CONTACT: Charles Hatten, Environmental Engineer, Control Strategies Section, Air Programs Branch (AR-18J), Environmental Protection Agency, Region 5, 77 West Jackson Boulevard, Chicago, Illinois 60604, (312) 886-6031, hatten.charles@epa.gov.

SUPPLEMENTARY INFORMATION: Throughout this document whenever “we,” “us,” or “our” is used, we mean EPA. This supplementary information section is arranged as follows:

I. What did Michigan submit?

II. What action is EPA taking?

III. Incorporation by Reference

IV. Statutory and Executive Order Reviews

I. What did Michigan submit?

On December 21, 2015, MDEQ submitted a request to EPA to make minor administrative revisions to rules in Chapter 336, Part 9. The revisions are described below:

R 336.1906 (rule 906)—This existing rule requires notice to MDEQ for the placement of a device that dilutes or conceals emissions. MDEQ requests the rule that is currently in effect at the state level be incorporated into the SIP. The regulatory text of Michigan's current rule, effective May 20, 2015, is identical to the text of the SIP approved rule, which became effective March 19, 2002. The only revision to the text is the effective date of the rule. Because there are no substantive changes to language in the current version of the rule promulgated at the state, EPA finds the 2015 version of rule 906 approvable into the SIP.

R 336.1911 (rule 911) and R 336.1912 (rule 912)—The provisions of these rules do not allow emissions or specifically limit emissions from a source, process equipment, or operation. In the existing rule 911, it requires a malfunction abatement plan in certain situations. A person responsible for the operation of a source of an air contaminant shall prepare a malfunction abatement plan to prevent, detect, and correct malfunctions or equipment failures resulting in emissions exceeding any applicable emission limitation. In this rule the word “commission” was changed to “department.” Malfunction abatement plans are to be submitted to the department because the commission no longer exists.

The existing rule 912 addresses notification and reporting requirements of excess emissions resulting from either an abnormal condition, start-up, shutdown, or malfunction of a source, process equipment, or operation. In section 912(5b), the word “which” was changed to “that.”

Because there are no substantive changes to the language in rules 911 and 912, EPA finds the revisions acceptable for approval into the Michigan SIP.¹

¹ On June 12, 2015 (80 FR 33840), EPA finalized a SIP Call to address deficient SIP provisions regarding emissions during facility start-up, shutdown, and malfunctions. In this SIP Call, Michigan was required to revise a rule which allowed an affirmative defense for excess emissions during start-up or shutdown. The SIP Call did not include rule 911 or 912. These two rules address only planning and reporting requirements. Thus, they comply with EPA's policy on start-up, shutdown, and malfunctions.

Overall, the revisions to Part 9 make minor corrections to rules 906, 911, and 912. The revisions are solely administrative, and do not make any substantive changes to the language in the rules. The revisions to these rules will not increase emissions of pollutants into the atmosphere.

II. What action is EPA taking?

EPA is approving the December 21, 2015, request to revise Michigan's air pollution control rules in Part 9. The revisions will not increase emissions of pollutants into the atmosphere.

We are publishing this action without prior proposal because we view this as a noncontroversial amendment and anticipate no adverse comments. However, in the proposed rules section of this Federal Register publication, we are publishing a separate document that will serve as the proposal to approve the state plan if relevant adverse written comments are filed. This rule will be effective February 17, 2017 without further notice unless we receive relevant adverse written comments by January 18, 2017. If we receive such comments, we will withdraw this action before the effective date by publishing a subsequent document that will withdraw the final action. All public comments received will then be addressed in a subsequent final rule based on the proposed action. EPA will not institute a second comment period. Any parties interested in commenting on this action should do so at this time. If we do not receive any comments, this action will be effective February 17, 2017.

III. Incorporation by Reference

In this rule, EPA is finalizing regulatory text that includes incorporation by reference. In accordance with requirements of 1 CFR 51.5, EPA is finalizing the incorporation by reference of the Michigan regulations described in the amendments to 40 CFR part 52 set forth below. Therefore, these materials have been approved by EPA for inclusion in the State implementation plan, have been incorporated by reference by EPA into that plan, are fully federally enforceable under sections 110 and 113 of the CAA as of the effective date of the final rulemaking of EPA's approval, and will be incorporated by reference by the Director of the Federal Register in the next update to the SIP compilation.² EPA has made, and will continue to make, these documents generally available electronically through www.regulations.gov and/or at the EPA Region 5 Office (please contact the person identified in the FOR FURTHER INFORMATION CONTACT section of this preamble for more information).

² 62 FR 27968 (May 22, 1997).

IV. Statutory and Executive Order Reviews

Under the Clean Air Act (CAA), the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by February 17, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Reporting and recordkeeping requirements.

Dated: December 2, 2016.
Robert A. Kaplan,
Acting Regional Administrator, Region 5.

40 CFR part 52 is amended as follows:

PART 52—APPROVAL AND PROMULGATION OF IMPLEMENTATION PLANS

1. The authority citation for part 52 continues to read as follows:

Authority: 42 U.S.C. 7401 et seq.

2. In § 52.1170, the table in paragraph (c) is amended by revising the entries for R 336.1906, R 336.1911, and R 336.1912 under the heading “Part 9. Emission Limitations and Prohibitions—Miscellaneous” to read as follows:

§ 52.1170 Identification of plan.

* * * * *

(c) * * *

EPA-Approved Michigan Regulations
Michigan citation | Title | State effective date | EPA approval date | Comments
* * * * * * *
Part 9. Emission Limitations and Prohibitions—Miscellaneous
* * * * * * *
R 336.1906 | Diluting and concealing emissions | 5/20/2015 | 12/19/2016 [insert Federal Register citation]
* * * * * * *
R 336.1911 | Malfunction abatement plans | 5/20/2015 | 12/19/2016 [insert Federal Register citation]
R 336.1912 | Abnormal conditions, start-up, shutdown, and malfunction of a source, process, or process equipment, operating, notification, and reporting requirements | 5/20/2015 | 12/19/2016 [insert Federal Register citation]
* * * * * * *

[FR Doc. 2016-30195 Filed 12-16-16; 8:45 am]

BILLING CODE 6560-50-P